NATIONAL AERONAUTICS AND SPACE ADMINISTRATION

[Notice 15-112]

Notice of Intent To Grant a Partially Exclusive Patent License

AGENCY: National Aeronautics and Space Administration.

ACTION: Notice of Intent To Grant a Partially Exclusive Patent License

SUMMARY: This notice is issued in accordance with 35 U.S.C. 209(e) and 37 CFR 404.7(a)(1)(i). NASA hereby gives notice of its intent to grant a partially exclusive patent license in the United States, to practice the inventions described and claimed in the following U.S. Patents: “USPN 8,160,728, Methods of determining complete sensor requirements for autonomous mobility; USPN 8,095,485, System and method for embedding emotion in logic systems; USPN 8,041,661, System and method for determining stability of a neural system; USPN 7,769,488, Reconfigurable Structure; USPN 7,512,568, Evolvable synthetic neural system” to Sentient Cyber, having its principal place of business in New York, NY. The fields of use may be limited to, but not necessarily be limited to, e-Commerce Transactional Security Monitoring & Protection. For the purpose of this license, e-Commerce (electronic commerce or EC) is defined as the buying and selling of goods and services, or the transmitting of funds or data, over an electronic network, primarily the Internet. These business transactions occur either business-to-business, business-to-consumer, consumer-to-consumer or consumer-to-business. The patent rights in these inventions as applicable have been assigned to the United States of America as represented by the Administrator of the National Aeronautics and Space Administration. The prospective partially exclusive license will comply with the terms and conditions of 35 U.S.C. 209 and 37 CFR 404.7. NASA has not yet made a determination to grant partially exclusive licenses and may deny the requested licenses even if no objections are submitted within the comment period.

DATES: The prospective partially exclusive license may be granted unless, within fifteen (15) days from the date of this published notice, NASA receives written objections including evidence and argument that establish that the grant of exclusives licenses would not be consistent with the requirements of 35 U.S.C. 209 and 37 CFR 404.7. Competing applications completed and received by NASA within fifteen (15) days of the date of this published notice will also be treated as objections.

Objections submitted in response to this notice will not be made available to the public for inspection and, to the extent permitted by law, will not be released under the Freedom of Information Act, 5 U.S.C. 552.

ADDRESSES: Objections relating to the prospective license may be submitted to Mr. Bryan A. Geurts, Chief Patent Counsel, Goddard Space Flight Center, Code 140.1, Greenbelt, MD 20771, (301) 286-7351.

FOR FURTHER INFORMATION CONTACT: Darryl Mitchell, Innovative Technology Partnerships Office, Goddard Space Flight Center, Code 504, Greenbelt, MD 20771 (301) 286-5810. Information about other NASA inventions available for licensing can be found online at http://technology.nasa.gov/.

Mark P. Dvorscak,
Agency Counsel for Intellectual Property.

[FR Doc. 2015-30268 Filed 11-27-15; 8:45 am]

BILLING CODE 7510-13-P